DEPARTMENT OF ENERGY

10 CFR Part 824

[Docket No. SO-RM-00-01]

RIN 1992-AA28

Procedural Rules for the Assessment of Civil Penalties for Classified Information Security Violations; Correction

AGENCY: Office of Security, Department of Energy.

ACTION: Final rule; correction.

SUMMARY: The Department of Energy published a final rule on January 26, 2005, establishing 10 CFR Part 824 to implement section 234B of the Atomic Energy Act of 1954. This document corrects an inadvertent omission in one sentence of the final rule.

DATES: This final rule is effective on February 25, 2005.

FOR FURTHER INFORMATION CONTACT: Geralyn Praskievicz, (202) 586-4451 or, JoAnn Williams, (202) 586-6899.

SUPPLEMENTARY INFORMATION: This document makes a correction to a final rule that was published in the Federal Register on January 26, 2005 (67 FR 3599).

In rule document FR Doc. 05-1303, appearing on page 3599, in the issue of Wednesday, January 26, 2005, the following correction is made.

PART 824—[CORRECTED]

§ 824.2 [Corrected]

Beginning on page 3607, in the third column, § 824.2(c) is corrected to read as follows:

* * * * *

(c) Individual employees. No civil penalty may be assessed against an individual employee of a contractor or any other entity which enters into an agreement with DOE.

Issued in Washington, DC, on February 16, 2005.
Glenn S. Podonsky,
Director, Office of Security and Safety Performance Assurance.

[FR Doc. 05-3423 Filed 2-22-05; 8:45 am]

BILLING CODE 6450-01-P